Proclamation 9176 of September 26, 2014

Gold Star Mother's and Family's Day, 2014

By the President of the United States of America

A Proclamation

For generations, mothers and families have given a piece of their heart to our Nation as their loved ones serve in our Armed Forces with honor and distinction. Seventy years ago, as Americans stormed an unforgiving beach, families waited anxiously for a call or a letter from an ocean away. And today, many families experience the absence of a deployed service member so future generations might know a more just and peaceful world. On Gold Star Mother's and Family's Day, we pay tribute to all those who made the ultimate sacrifice, and to the families who suffered the unimaginable pain of losing them so our Union might endure.

Hung in these families' front windows, blue-turned-gold stars remind us of their extraordinary loss and reflect not only the pride still in their eyes, but also the tears of pain that will never fully go away. Our Gold Star families hold dear to the values for which their loved ones gave their lives. With courage and resilience, they preserve the memories of the brave men and women we have lost by giving back to their communities and working toward a better future. As a Nation, we will always honor the sacrifice these families have made.

Our sacred obligation to our service members and their loved ones will never be forgotten. On this day and every day, we salute all those who have worn America's uniforms and the families who stand by them. Our homeland is stronger and safer because of these heroes. As we celebrate the memories of our troops who gave their last full measure of devotion, we renew our commitment to look after the loved ones they have left in our care.

The Congress, by Senate Joint Resolution 115 of June 23, 1936 (49 Stat. 1985 as amended), has designated the last Sunday in September as “Gold Star Mother's Day.”

NOW, THEREFORE, I, BARACK OBAMA, President of the United States of America, by virtue of the authority vested in me by the Constitution and the laws of the United States, do hereby proclaim September 28, 2014, as Gold Star Mother's and Family's Day. I call upon all Government officials to display the flag of the United States over Government buildings on this special day. I also encourage the American people to display the flag and hold appropriate ceremonies as a public expression of our Nation's gratitude and respect for our Gold Star Mothers and Families.

IN WITNESS WHEREOF, I have hereunto set my hand this twenty-sixth day of September, in the year of our Lord two thousand fourteen, and of the Independence of the United States of America the two hundred and thirty-ninth.

[FR Doc. 2014-23584

Filed 9-30-14; 11:15 am]

Billing code 3295-F5